DEPARTMENT OF HEALTH AND HUMAN SERVICES

National Committee on Vital and Health Statistics: Meeting

Pursuant to the Federal Advisory Committee Act, the Department of Health and Human Services announces the following advisory committee meeting.

Name: National Committee on Vital and Health Statistics (NCVHS), Subcommittee on Standards and Security.

Time and Date: 9 a.m. to 5 p.m., January 29, 2003; 9 a.m. to 1 p.m., January 30, 2003.

Place: Hubert H. Humphrey Building, Room 705A, 200 Independence Avenue SW., Washington, DC.

Status: Open.

Purpose: The agenda for Wednesday, January 29th includes presentations from three panels (health care providers, health plans, and health researchers) on current coding practices for Complementary Alternative Medicine (CAM) services and therapies. The presentations and question and answer periods will be followed by a Roundtable discussion among the panelists. The morning session on the 30th will be an interactive discussion with industry representatives regarding ways to improve the Health Insurance Portability and Accountability Act of 1996 (HIPAA) standards maintenance and update process.

CONTACT PERSON FOR MORE INFORMATION:

Substantive program information as well as summaries of meetings and a roster of Committee members may be obtained from Karen Trudel, Senior Technical Advisor, Security and Standards Group, Centers for Medicine and Medicaid Services, MS: C5-24-04, 7500 Security Boulevard, Baltimore, MD 21244-1850, telephone: 410-786-9937; or Majorie S. Greenberg, Executive Secretary, NCVHS, National Center for Health Statistics, Centers for Disease Control and Prevention, Room 1100, Presidential Building, 6525 Belcrest Road, Hyattsville, Maryland 20782, telephone: (301) 458-4245. Information also is available on the NCVHS home page of the HHS Web site: http://www.ncvhs.hhs.gov/ where an agenda for the meeting will be posted when available.

Dated: January 14, 2003.
James Scanlon,
Acting Director, Office of Science and Data Policy, Office of the Assistant Secretary for Planning and Evaluation.

[FR Doc. 03-1606 Filed 1-23-03; 8:45 am]

BILLING CODE 4151-05-M